DEPARTMENT OF THE TREASURY

Submission for OMB Review; Comment Request

August 15, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before September 19, 2011 to be assured of consideration.

Bureau of the Public Debt (BPD)

OMB Number: 1535-0059.

Type of Review: Extension without change of a currently approved collection.

Title: Special Form of Assignment for U.S. Registered Definitive Securities and U.S. Bearer Securities for Conversion to BECCS or CUBES.

Form: PD F 1832 E.

Abstract: Used to certify assignments of U.S. registered definitive securities.

Affected Public: Individuals or Households.

Estimated Total Burden Hours: 1,250.

OMB Number: 1535-0113.

Type of Review: Extension without change of a currently approved collection.

Title: Disclaimer and Consent with Respect to United States Savings Bond/Notes.

Form: PD F 1849 E.

Abstract: Used to obtain a disclaimer and consent as the result of an error in registration or otherwise the payment, refund of the purchase price, or reissue as requested by one person would appear to affect the right, title or interest of some other person.

Affected Public: Individuals or Households.

Estimated Total Burden Hours: 700.

Bureau Clearance Officer: Bruce Sharp, Bureau of the Public Debt, 200 Third Street, Parkersburg, West Virginia 26106; (304) 480-8112.

OMB Reviewer: Shagufta Ahmed, Office of Management and Budget, New Executive Office Building, Room 10235, Washington, DC 20503; (202) 395-7873.

Dawn D. Wolfgang,
Treasury PRA Clearance Officer.

[FR Doc. 2011-21050 Filed 8-17-11; 8:45 am]

BILLING CODE 4810-39-P